DEPARTMENT OF THE TREASURY

Internal Revenue Service

Proposed Collection; Comment Request for Digital Asset Proceeds From Broker Transactions

AGENCY: Internal Revenue Service (IRS), Treasury.

ACTION: Notice and request for comments.

SUMMARY: The Internal Revenue Service, as part of its continuing effort to reduce paperwork and respondent burden, invites the general public and other Federal agencies to take this opportunity to comment on continuing information collections, as required by the Paperwork Reduction Act of 1995. The IRS is soliciting comments concerning information collection requirements related to digital asset proceeds from broker transactions.

DATES: Written comments should be received on or before June 21, 2024 to be assured of consideration.

ADDRESSES: Direct all written comments to Andres Garcia, Internal Revenue Service, Room 6526, 1111 Constitution Avenue NW, Washington, DC 20224, or by email to pra.comments@irs.gov. Include “Digital Asset Proceeds From Broker Transactions” in the subject line of the message.

FOR FURTHER INFORMATION CONTACT: Requests for additional information or copies of the form should be directed to Andres Garcia, (202) 317-4542, or at Internal Revenue Service, Room 6526, 1111 Constitution Avenue NW, Washington, DC 20224, or through the internet, at pra.comments@irs.gov.

SUPPLEMENTARY INFORMATION:

Title: Digital Asset Proceeds From Broker Transactions.

OMB Number: 1545-NEW

Form Number: 1099-DA.

Abstract: Form 1099-DA is used by brokers to report proceeds from (and in some cases, basis for) digital asset dispositions to taxpayers and to the IRS (Internal Revenue Code section 6045(a)). Taxpayers may be required to recognize gain from these dispositions of digital assets. Reporting is also required when brokers know or have reason to know that a corporation in which a taxpayer owns digital assets, that is also stock, has had a reportable change in control or capital structure. Taxpayers may be required to recognize gain from the receipt of cash, services, digital assets, or other property that was exchanged for a digital asset that is also the corporation's stock.

Current Actions: This is a new collection.

Type of Review: New collection.

Affected Public: Business or other for-profit organizations, individuals or households, and not-for-profit institutions.

Estimated Number of Respondents: 5,050.

Estimated Number of Responses per Respondents: 2,833.

Estimated Time per Response: 0.15 hours.

Estimated Total Annual Burden Hours: 2,146,250 hours.

The following paragraph applies to all the collections of information covered by this notice.

An agency may not conduct or sponsor, and a person is not required to respond to, a collection of information unless the collection of information displays a valid OMB control number. Books or records relating to a collection of information must be retained if their contents may become material in the administration of any internal revenue law. Generally, tax returns and tax return information are confidential, as required by 26 U.S.C. 6103.

Request for Comments: Comments submitted in response to this notice will be summarized and/or included in the request for OMB approval. All comments will become a matter of public record. Comments are invited on: (a) whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: April 16, 2024.
Andres Garcia Leon,
Supervisory Tax Analyst.

[FR Doc. 2024-08528 Filed 4-19-24; 8:45 am]

BILLING CODE 4830-01-P